DEPARTMENT OF HEALTH AND HUMAN SERVICES

Centers for Disease Control and Prevention

[30Day-10-0017]

Agency Forms Undergoing Paperwork Reduction Act Review; Proposed Data Collections Submitted for Public Comment and Recommendations; Correction

AGENCY: Centers for Disease Control and Prevention.

ACTION: Notice; correction.

SUMMARY: The Centers for Disease Control and Prevention published a document in the Federal Register of January 22, 2010, concerning request for comments on application for training. The document contained an incorrect status.

FOR FURTHER INFORMATION CONTACT: Maryam Daneshvar, 404-639-4604; E-mail: Maryam.Daneshvar@cdc.hhs.gov.

Correction

In the Federal Register of January 22, 2010, in FR Doc 2010-1165, on page 3736, in the proposed project, correct the “Status” caption to read:

Application for Training (OMB No. 0920-0017 Exp. 3/31/2010)—REVISION—

Dated: January 22, 2010.
Maryam I. Daneshvar,
Acting Reports Clearance Officer, Centers for Disease Control and Prevention.

[FR Doc. 2010-1715 Filed 1-27-10; 8:45 am]

BILLING CODE 4163-18-P